DEPARTMENT OF DEFENSE

GENERAL SERVICES ADMINISTRATION

NATIONAL AERONAUTICS AND SPACE ADMINISTRATION

[OMB Control No. 9000-0142; Docket 2011-0079; Sequence 19]

Federal Acquisition Regulation; Submission for OMB Review; Past Performance Information

AGENCIES: Department of Defense (DOD), General Services Administration (GSA), and National Aeronautics and Space Administration (NASA).

ACTION: Notice of request for public comments regarding an extension to an existing OMB clearance.

SUMMARY: Under the provisions of the Paperwork Reduction Act the Regulatory Secretariat will be submitting to the Office of Management and Budget (OMB) a request to review and approve an extension of a previously approved information collection requirement concerning past performance information. A notice was published in the Federal Register at 76 FR 67153, on October 31, 2011. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before March 12, 2012.

ADDRESSES: Submit comments identified by Information Collection 9000-0142, Past Performance Information, by any of the following methods:

• Regulations.gov: http://www.regulations.gov. Submit comments via the Federal eRulemaking portal by inputting “Information Collection 9000-0142, Past Performance Information,” under the heading “Enter Keyword or ID” and selecting “Search.” Select the link “Submit a Comment” that corresponds with “Information Collection 9000-0142, Past Performance Information.” Follow the instructions provided at the “Submit a Comment” screen. Please include your name, company name (if any), and “Information Collection 9000-0142, Past Performance Information,” on your attached document.

• Fax: 202-501-4067.

• Mail: General Services Administration, Regulatory Secretariat (MVCB), 1275 First Street NE., Washington, DC 20417. ATTN: Hada Flowers/IC 9000-0142, Past Performance Information.

Instructions: Please submit comments only and cite Information Collection 9000-0142, Past Performance Information, in all correspondence related to this collection. All comments received will be posted without change to http://www.regulations.gov, including any personal and/or business confidential information provided.

FOR FURTHER INFORMATION CONTACT: Mr. Curtis E. Glover, Sr., Procurement Analyst, Acquisition Policy Division, at GSA (202) 501-1448 or email Curtis.glover@gsa.gov.

SUPPLEMENTARY INFORMATION:

A. Purpose

Past performance information regarding a contractor's actions under previously awarded contracts is relevant information for future source selection purposes.

B. Annual Reporting Burden

Respondents: 150,000.

Responses per Respondent: 4.

Annual Responses: 600,000.

Hours per Response: 2.

Total Burden Hours: 1,200,000.

Obtaining Copies of Proposals: Requesters may obtain a copy of the information collection documents from the General Services Administration, Regulatory Secretariat (MVCB), 1275 First Street NE., Washington, DC 20417, telephone (202) 501-4755. Please cite OMB Control No. 9000-0142, Past Performance Information, in all correspondence.

Dated: February 3, 2012.
Laura Auletta,
Director, Office of Governmentwide Acquisition Policy, Office of Acquisition Policy, Office of Governmentwide Policy.

[FR Doc. 2012-3050 Filed 2-8-12; 8:45 am]

BILLING CODE 6820-EP-P